DEPARTMENT OF HOUSING AND URBAN DEVELOPMENT

[Docket No. FR-7027-N-06]

60-Day Notice of Proposed Information Collection: Project Approval for Single-Family Condominiums

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 31, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, US Department of Housing and Urban Development, 451 7th Street SW, Room 4176, Washington, DC 20410-5000; telephone (202) 402-3400 (this is not a toll-free number) or email at Colette.Pollard@hud.gov. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A. Stakeholders may view the proposed changes to HUD-9991, FHA Condominium Loan Level/Single-Unit Approval Questionnaire and HUD-9992, FHA Condominium Project Approval Questionnaire at: https://www.hud.gov/program_offices/housing/sfh/SFH_policy_drafts.

A. Overview of Information Collection

Title of Information Collection: Project Approval for Single-Family Condominiums.

OMB Approval Number: 2502-0610.

Type of Request: Revision of currently approved collection.

Form Number: HUD-9991, FHA Condominium Loan Level/Single-Unit Approval Questionnaire; HUD-9992, FHA Condominium Project Approval Questionnaire; HUD-92544, Warranty of Completion of Construction; HUD-92541, Builder's Certification of Plans, Specifications, and Site; HUD-96029, Condominium Rider.

Description of the need for the information and proposed use: This collection package seeks to renew and revise two collection forms, HUD-9992, FHA Condominium Project Approval Questionnaire, to process condominium project approval applications and the HUD-9991, FHA Condominium Loan Level/Single-Unit Approval Questionnaire to process single-unit approvals. These forms are needed to determine if a condominium project is eligible for FHA project approval and if a unit in an approved or unapproved condominium project is eligible for FHA-insured financing. The HUD-9992, FHA Condominium Project Approval Questionnaire and the HUD-9991, FHA Condominium Loan Level/Single-Unit Approval Questionnaire have been revised to make the questionnaires adaptable to future policy changes. The HUD-92544, Warranty of Completion of Construction and HUD-96029, Condominium Rider were updated to comply with the burden statement requirements.

Respondents (i.e., affected public): Business or other for-profit (lenders and condominium associations).

Estimated Number of Respondents: 180,000.

Estimated Number of Responses: 180,000.

Frequency of Response: One-time for each condominium project approval or recertification, and one-time for loan level approval and Single-Unit Approval.

Average Hours per Response: .44 hours (varies by form and approval type: Project, loan level approval and Single-Unit Approval).

Total Estimated Burdens: 79,750.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: January 24, 2020.
John L. Garvin,
General Deputy Assistant Secretary for Housing.

[FR Doc. 2020-01880 Filed 1-30-20; 8:45 am]

BILLING CODE 4210-67-P